DEPARTMENT OF TRANSPORTATION

Federal Aviation Administration

14 CFR Part 39

[Docket No. FAA-2017-1068; Product Identifier 2017-CE-034-AD; Amendment 39-19190; AD 2018-03-17]

RIN 2120-AA64

Airworthiness Directives; Aeroclubul Romaniei Gliders

AGENCY: Federal Aviation Administration (FAA), Department of Transportation (DOT).

ACTION: Final rule.

SUMMARY: We are adopting a new airworthiness directive (AD) for Aeroclubul Romaniei Model IS-28B2 gliders. This AD results from mandatory continuing airworthiness information (MCAI) issued by an aviation authority of another country to identify and correct an unsafe condition on an aviation product. The MCAI describes the unsafe condition as cracks at stringers in the rear fuselage of several Model IS-28B2 gliders. We are issuing this AD to require actions to address the unsafe condition on these products.

DATES: This AD is effective March 20, 2018.

The Director of the Federal Register approved the incorporation by reference of certain publications listed in the AD as of March 20, 2018.

ADDRESSES: You may examine the AD docket on the internet at http://www.regulations.gov by searching for and locating Docket No. FAA-2017-1068; or in person at U.S. Department of Transportation, Docket Operations, M-30, West Building Ground Floor, Room W12-140, 1200 New Jersey Avenue SE, Washington, DC 20590.

For service information identified in this AD, contact Aeroclubul Romaniei, Bd.Lascar Catargiu, Nr.54, cod: 010673, Sector 1, Bucharest, Romania; telephone: 011+40 021-312-36-19; fax: 011+40 021-312-36-19; internet: www.aeroclubulromaniei.ro; email: www.aeroclubulromaniei.ro/contact/. You may view this referenced service information at the FAA, Policy and Innovation Division, 901 Locust, Kansas City, Missouri 64106. For information on the availability of this material at the FAA, call (816) 329-4148. It is also available on the internet at http://www.regulations.gov by searching for Docket No. FAA-2017-1068.

FOR FURTHER INFORMATION CONTACT: Jim Rutherford, Aerospace Engineer, FAA, Small Airplane Standards Branch, 901 Locust, Room 301, Kansas City, Missouri 64106; telephone: (816) 329-4165; fax: (816) 329-4090; email: jim.rutherford@faa.gov.

SUPPLEMENTARY INFORMATION:

Discussion

We issued a notice of proposed rulemaking (NPRM) to amend 14 CFR part 39 by adding an AD that would apply to Aeroclubul Romaniei Model IS-28B2 gliders. The NPRM was published in the Federal Register on November 14, 2017 (82 FR 52676). The NPRM proposed to correct an unsafe condition for the specified products and was based on mandatory continuing airworthiness information (MCAI) originated by an aviation authority of another country. The MCAI states:

Cracks were reportedly detected, located at stringers in the rear fuselage of a number of IS-28B2 sailplanes. The subsequent investigation attributed these cracks to induction of a pre-stress during the manufacturing process of the affected parts.

This condition, if not detected and corrected, could lead to reduced structural strength, possibly resulting in a loss of structural integrity of the sailplane.

To address this potentially unsafe condition, Aeroclubul Romaniei (AR) issued Service Bulletin (SB) SB-IS-28B2-AR-01 to provide inspection instructions. AR is currently developing modification(s) to provide a design solution for the affected sailplanes.

For the reasons described above, this [EASA] AD requires repetitive inspections of the structure of the rear fuselage and, depending on findings, accomplishment of applicable corrective action(s).

This [EASA] AD is considered to be an interim action and further AD action may follow.

The MCAI can be found in the AD docket on the internet at: https://www.regulations.gov/document?D=FAA-2017-1068-0002.

Comments

We gave the public the opportunity to participate in developing this AD. We received no comments on the NPRM or on the determination of the cost to the public.

Conclusion

We reviewed the relevant data and determined that air safety and the public interest require adopting the AD as proposed except for minor editorial changes. We have determined that these minor changes:

• Are consistent with the intent that was proposed in the NPRM for correcting the unsafe condition; and

• Do not add any additional burden upon the public than was already proposed in the NPRM.

Related Service Information Under 1 CFR Part 51

We reviewed Aeroclubul Romaniei Service Bulletin No.: SB-IS-28B2-AR-01, Revision 003, dated February 9, 2017 (ARSB No. AR-01), and Aeroclubul Romaniei Service Bulletin No.: SB-IS-28B2-AR-02, Revision 01, dated February 24, 2017 (ARSB No. AR-02). ARSB No. AR-01 describes procedures for inspection of the rear fuselage area to detect any cracks, ruptures, or corrosion. ARSB No. AR-02 describes procedures for installation of a modification to the upper stringer of the rear fuselage. This service information is reasonably available because the interested parties have access to it through their normal course of business or by the means identified in the ADDRESSES section of the AD.

Costs of Compliance

We estimate that this AD will affect 30 products of U.S. registry. We also estimate that it would take about 2 work-hours per product to comply with the basic requirements of this AD. The average labor rate is $85 per work-hour.

Based on these figures, we estimate the cost of this AD on U.S. operators to be $5,100, or $170 per product.

In addition, we estimate that any necessary follow-on actions would take about 15 work-hours and require parts costing $1,000, for a cost of $2,275 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to small airplanes, gliders, balloons, airships, domestic business jet transport airplanes, and associated appliances to the Director of the Policy and Innovation Division.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

Examining the AD Docket

You may examine the AD docket on the internet at http://www.regulations.gov by searching for and locating Docket No. FAA-2017-1068; or in person at Docket Operations between 9 a.m. and 5 p.m., Monday through Friday, except Federal holidays. The AD docket contains the NPRM, the regulatory evaluation, any comments received, and other information. The street address for Docket Operations (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2018-03-17 Aeroclubul Romaniei: Amendment 39-19190; Docket No. FAA-2017-1068; Product Identifier 2017-CE-034-AD.

(a) Effective Date

This airworthiness directive (AD) becomes effective March 20, 2018.

(b) Affected ADs

None.

(c) Applicability

This AD applies to Aeroclubul Romaniei Model IS-28B2 gliders, all serial numbers, certificated in any category.

(d) Subject

Air Transport Association of America (ATA) Code 53: Fuselage.

(e) Reason

This AD was prompted by mandatory continuing airworthiness information (MCAI) originated by an aviation authority of another country to identify and correct an unsafe condition on an aviation product. The MCAI describes the unsafe condition as cracks at stringers in the rear fuselage of several Model IS-28B2 gliders. We are issuing this AD to detect and correct cracks, which could lead to reduced structural strength resulting in loss of structural integrity and loss of control.

(f) Actions and Compliance

Unless already done, do the following actions in paragraphs (f)(1) through (3):

(1) Within 90 days after March 20, 2018 (the effective date of this AD) and repetitively thereafter at intervals not to exceed 50 hours time-in-service (TIS), inspect the rear fuselage structure following the instructions in Aeroclubul Romaniei Service Bulletin (SB) No.: SB-IS-28B2-AR-01, Revision 003, dated February 9, 2017.

(2) If any crack or corrosion is detected during any inspection required in paragraph (f)(1) of this AD, before further flight, modify the rear fuselage structure following the instructions in Aeroclubul Romaniei SB No.: SB-IS-28B2-AR-02, Revision 01, dated February 24, 2017.

(3) Completion of the modification to the rear fuselage structure as required in paragraph (f)(2) of this AD terminates the repetitive inspections required in paragraph (f)(1) of this AD.

(g) Reporting Requirement

Although Aeroclubul Romaniei SB No.: SB-IS-28B2-AR-01, Revision 003, dated February 9, 2017, specifies to submit certain information to the manufacturer, this AD does not require that action.

(h) Other FAA AD Provisions

The following provisions also apply to this AD:

(1) Alternative Methods of Compliance (AMOCs): The Manager, Small Airplane Standards Branch, FAA, has the authority to approve AMOCs for this AD, if requested using the procedures found in 14 CFR 39.19. Send information to ATTN: Jim Rutherford, Aerospace Engineer, FAA, Small Airplane Standards Branch, 901 Locust, Room 301, Kansas City, Missouri 64106; telephone: (816) 329-4165; fax: (816) 329-4090; email: jim.rutherford@faa.gov. Before using any approved AMOC on any glider to which the AMOC applies, notify your appropriate principal inspector (PI) in the FAA Flight Standards District Office (FSDO), or lacking a PI, your local FSDO.

(2) Contacting the Manufacturer: For any requirement in this AD to obtain corrective actions from a manufacturer, the action must be accomplished using a method approved by the Manager, Small Airplane Standards Branch, FAA; or the European Aviation Safety Agency (EASA).

(i) Related Information

Refer to MCAI AD No.: 2016-0233, dated November 23, 2016. The MCAI can be found in the AD docket on the internet at: https://www.regulations.gov/document?D=FAA-2017-1068-0002.

(j) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Aeroclubul Romaniei Service Bulletin No.: SB-IS-28B2-AR-01, Revision 003, dated February 9, 2017.

(ii) Aeroclubul Romaniei Service Bulletin No.: SB-IS-28B2-AR-02, Revision 01, dated February 24, 2017.

(3) For Aeroclubul Romaniei service information identified in this AD, contact: Aeroclubul Romaniei, Bd.Lascar Catargiu, Nr.54, cod: 010673, Sector 1, Bucharest, Romania; telephone: 011+40 021-312-36-19; fax: 011+40 021-312-36-19; internet: www.aeroclubulromaniei.ro; email: www.aeroclubulromaniei.ro/contact/.

(4) You may view this service information at the FAA, Policy and Innovation Division, 901 Locust, Kansas City, Missouri 64106. For information on the availability of this material at the FAA, call (816) 329-4148. In addition, you can access this service information on the internet at http://www.regulations.gov by searching for and locating Docket No. FAA-2017-1068.

(5) You may view this service information that is incorporated by reference at the National Archives and Records Administration (NARA). For information on the availability of this material at NARA, call 202-741-6030, or go to: http://www.archives.gov/federal-register/cfr/ibr-locations.html.

Issued in Kansas City, Missouri, on February 5, 2018.
Melvin J. Johnson,
Deputy Director, Policy & Innovation Division, Aircraft Certification Service.

[FR Doc. 2018-02601 Filed 2-12-18; 8:45 am]

BILLING CODE 4910-13-P